DEPARTMENT OF COMMERCE

International Trade Administration

[A-570-822, A-583-820]

Helical Spring Lock Washers From the People's Republic of China and Taiwan; Final Results of Expedited Sunset Reviews

AGENCY: Import Administration, International Trade Administration, Department of Commerce.

ACTION: Notice of Final Results of Expedited Sunset Reviews: Helical Spring Lock Washers From the People's Republic of China and Taiwan.

SUMMARY: On November 2, 1999, the Department of Commerce (“the Department”) initiated sunset reviews of the antidumping duty orders on helical spring lock washers (“HSLWs”) from the People's Republic of China (“PRC”) and Taiwan (64 FR 59160) pursuant to section 751(c) of the Tariff Act of 1930, as amended (“the Act”). On the basis of notices of intent to participate filed on behalf of domestic interested parties and inadequate response (in these cases, no response) from respondent interested parties, the Department determined to conduct expedited reviews. As a result of these reviews, the Department finds that revocation of the antidumping duty orders would likely lead to continuation or recurrence of dumping at the levels indicated in the Final Results of Reviews section of this notice.

EFFECTIVE DATE: June 5, 2000.

FOR FURTHER INFORMATION CONTACT: Eun W. Cho or Carole Showers, Office of Policy for Import Administration, International Trade Administration, U.S. Department of Commerce, 14th Street and Constitution Avenue, NW, Washington, DC 20230; telephone: (202) 482-1698 or (202) 482-3217, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department's regulations are to 19 CFR part 351 (1999) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Background

On November 2, 1999, the Department initiated sunset reviews of the antidumping orders on HSLWs from the PRC and Taiwan (64 FR 59160), pursuant to section 751(c) of the Act. On the basis of a notice to participate and adequate substantive response filed on behalf of a domestic interested party in each review, and inadequate response (in these cases, no response) from respondent interested parties, we determined to conduct expedited reviews. The Department has conducted these sunset reviews in accordance with sections 751 and 752 of the Act.

Scope

The products covered by this review are HSLWs of carbon steel, of carbon alloy steel, or of stainless steel, heat-treated or non-heat-treated, plated or non-plated, with ends that are off-line. HSLWs are designed to: (1) Function as a spring to compensate for developed looseness between the component parts of a fastened assembly; (2) distribute the load over a larger area for screws or bolts; and, (3) provide a hardened bearing surface. The scope does not include internal or external tooth washers, nor does it include spring lock washers made of other metals, such as copper. HSLWs subject to this review are currently classifiable under subheading 7318.21.0030 of the Harmonized Tariff Schedule of the United States (HTSUS). Although the HTSUS subheading is provided for convenience and customs purposes, the written description of the scope remains dispositive.

There has been one scope ruling with respect to HSLWs from the PRC and Taiwan. On November 21, 1997, the Department ruled that HSLWs imported into the United States in an uncut, coil form are within the scope of the order.¹

¹ See Notice of Scope Rulings, 62 FR 62288 (November 21, 1997)

Analysis of Substantive Responses

All issues raised in the case and rebuttal briefs by parties to these sunset reviews are addressed in the “Issues and Decision Memorandum” (“Decision Memo”) from Jeffrey A. May, Director, Office of Policy, Import Administration, to Troy H. Cribb, Acting Assistant Secretary for Import Administration, dated May 30, 2000, which is hereby adopted by this notice. The issues discussed in the attached Decision Memo include the likelihood of continuation or recurrence of dumping and the magnitude of the margin likely to prevail were the orders revoked. Parties can find a complete discussion of all issues raised in these reviews and the corresponding recommendations in this public memorandum which is on file in room B-099 of the main Commerce building.

In addition, a complete version of the Decision Memo can be accessed directly on the Web at www.ita.doc.gov/import_admin/records/frn/. The paper copy and electronic version of the Decision Memo are identical in content.

Final Results of Reviews

We determine that revocation of the antidumping duty orders on HSLWs from the PRC and Taiwan would be likely to lead to continuation or recurrence of dumping at the following percentage weighted-average margins:

Manufacturer/Exporter | Margin (percent)
PRC:
Hangzhou Spring Washer Plant (“HSWP”) | 69.88
HSWP via IFI Morgan Limited | 69.88
HSWP via Carway Development Ltd. | 69.88
HSWP via Midway Fasteners Ltd. | 69.88
HSWP via Linkwell Industry Co., Ltd. | 69.88
HSWP via Fastwell Industry Co., Ltd. | 69.88
HSWP via Sunfast International Corp. | 69.88
HSWP via Winner Standard Parts Co., Ltd. | 69.88
All Others | 128.63
Taiwan:
Spring Lake Enterprises | 31.93
Ceimiko Industrial | 31.93
Par Excellence Industrial | 31.93
All Others | 31.93

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

These five-year (“sunset”) reviews and notices are in accordance with sections 751(c), 752, and 777(i)(1) of the Act.

Dated: May 30, 2000.
Troy H. Cribb,
Acting Assistant Secretary for Import Administration.

[FR Doc. 00-14022 Filed 6-2-00; 8:45 am]

BILLING CODE 3510-DS-P